DEPARTMENT OF AGRICULTURE

Animal and Plant Health Inspection Service

7 CFR Part 319

[Docket No. 03-002-5]

RIN 0579-AC55

Importation of Nursery Stock; Postentry Quarantine Requirements for Potential Hosts of Chrysanthemum White Rust and Definition of From

AGENCY: Animal and Plant Health Inspection Service, USDA.

ACTION: Proposed rule; reopening of comment period.

SUMMARY: We are reopening the comment period for our proposed rule that would amend the regulations on importing nursery stock by providing a new option for the postentry quarantine growing period for articles of Chrysanthemum spp., Leucanthemella serotina, and Nipponanthemum nipponicum and amending the definition of from. This action will allow interested persons additional time to prepare and submit comments.

DATES: We will consider all comments that we receive on or before November 26, 2007.

ADDRESSES: You may submit comments by either of the following methods:

• Federal eRulemaking Portal: Go to http://www.regulations.gov, select “Animal and Plant Health Inspection Service” from the agency drop-down menu, then click “Submit.” In the Docket ID column, select APHIS-2005-0081 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. 03-002-4, Regulatory Analysis and Development, PPD, APHIS, Station 3A-03.8, 4700 River Road Unit 118, Riverdale, MD 20737-1238. Please state that your comment refers to Docket No. 03-002-4.

Reading Room: You may read any comments that we receive on Docket No. 03-002-4 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Arnold T. Tschanz, Senior Import Specialist, Commodity Import Analysis and Operations, PPQ, APHIS, 4700 River Road Unit 133, Riverdale, MD 20737-1236; (301) 734-5306.

SUPPLEMENTARY INFORMATION: On August 8, 2007, we published in the Federal Register (72 FR 44425-44433, Docket No. 03-002-4) a proposed rule that would amend the regulations on importing nursery stock by providing an option in which the postentry quarantine growing period for articles of Chrysanthemum spp., Leucanthemella serotina, and Nipponanthemum nipponicum that are imported from certain locations would be reduced from 6 months to 2 months, provided that the grower of those plants has implemented a systems approach to prevent the imported articles from being infected with chrysanthemum white rust. The proposed rule would also amend the definition of from.

Comments on the proposed rule were required to be received on or before October 9, 2007. We are reopening the comment period on Docket No. 03-002-4 until November 26, 2007. This action will allow interested persons additional time to prepare and submit comments. We will also consider all comments received between October 9, 2007, and the date of this notice.

Authority: 7 U.S.C. 450, 7701-7772, and 7781-7786; 21 U.S.C. 136 and 136a; 7 CFR 2.22, 2.80, and 371.3.

Done in Washington, DC, this 22nd day of October 2007.
Kevin Shea,
Acting Administrator, Animal and Plant Health Inspection Service.

[FR Doc. E7-21136 Filed 10-25-07; 8:45 am]

BILLING CODE 3410-34-P